OCCUPATIONAL SAFETY AND HEALTH REVIEW COMMISSION

Proposed Information Collection; Comment Request

AGENCY: Occupational Safety and Health Review Commission.

ACTION: 60-Day notice of information collection; request for comments.

SUMMARY: Under the Paperwork Reduction Act (PRA) of 1995, the Occupational Safety and Health Review Commission (OSHRC) offers the public and Federal agencies the opportunity to comment regarding OSHRC's intent to request an extension of an information collection (IC) that was approved through emergency clearance procedures by the Office of Management and Budget in January 2022. The information is collected through OSHRC's Request for a Medical Exception to the COVID-19 Vaccination Requirement form. The IC is assigned OMB Control No. 3202-0005, which is set to expire on July 31, 2022. This 60-Day Notice informs the public and Federal agencies that they may submit comments to OSHRC regarding this IC.

DATES: Submit written comments regarding this collection of information by April 4, 2022.

ADDRESSES: You may submit comments by any of the following methods:

• Email: OSHRC_Privacy@oshrc.gov. Include “PRA, OMB Control No. 3202-0005” in the subject line of the message.

• Fax: (202) 606-5417.

• Mail: One Lafayette Centre, 1120 20th Street NW, Ninth Floor, Washington, DC 20036-3457.

• Hand Delivery/Courier: Same as mailing address.

Instructions: All submissions must include your name, return address, and email address, if applicable. Please clearly label submissions as “PRA, OMB Control No. 3202-0005.”

FOR FURTHER INFORMATION CONTACT: Privacy Officer, via telephone at (202) 606-5410, or via email at OSHRC_Privacy@oshrc.gov.

SUPPLEMENTARY INFORMATION: To comply with Executive Order (E.O.) 14043, “Executive Order on Requiring Coronavirus Disease 2019 Vaccination for Federal Employees” (Sept. 9, 2021), and guidance from the Safer Federal Workforce Task Force, OSHRC created and received emergency clearance in January 2022 to collect information through the following form: “Request for a Medical Exception to the COVID-19 Vaccination Requirement.” The information collected is used to determine whether an employee is entitled under section 501 of the Rehabilitation Act of 1973, 29 U.S.C. 791, to a medical exception to the vaccination requirements for federal employees set forth in E.O. 14043.

The OMB control number assigned to this form was obtained through emergency clearance and is therefore valid for only six months, expiring on July 31, 2022. In anticipation of future requests from its employees, OSHRC is specifically requesting an extension of its IC. Prior to submitting an IC request to the Office of Information and Regulatory Affairs, 5 CFR 1320.8(d)(1) requires agencies to provide a 60-day notice in the Federal Register and “otherwise consult with members of the public and affected agencies.” Thus, through this notice, OSHRC is soliciting public comments that include: (1) Whether the proposed collection is necessary for the agency to perform its mission; (2) the accuracy of the estimated burden specified below; (3) ways for the agency to enhance the quality, usefulness, and clarity of the IC; and (4) ways for the agency to minimize the burden without reducing the quality of the IC.

Title of Collection: Request for a Medical Exception to the COVID-19 Vaccination Requirement.

OMB Control Number: 3202-0005.

Form Number: Not applicable.

Type of Review: Extension of an approved collection.

Affected Public: OSHRC employees.

Total Estimated Annual Burden Hours: 9.

Estimated Average Burden Hours per Respondent: 3.

Frequency of Response: As required.

Total Estimated No. of Annual Responses: 3.

Cynthia L. Attwood,
Chairman.

[FR Doc. 2022-02124 Filed 2-1-22; 8:45 am]

BILLING CODE 7600-01-P